DEPARTMENT OF AGRICULTURE

Rural Housing Service

[Docket No. RHS-21-MFH-0013]

Multi-Family Housing Non-Profit Transfer Technical Assistance Grants

AGENCY: Rural Housing Service, USDA.

ACTION: Notice of Funding Availability (NOFA).

SUMMARY: The Rural Housing Service (RHS), a Rural Development agency (Agency) of the United States Department of Agriculture (USDA), announces the availability of $3 million and the timeframe to submit applications for Multi-Family Housing Non-Profit Transfer Technical Assistance (MFHNPTA) Grants program from qualified nonprofits (NP) and public housing authorities (PHA) to provide technical assistance to RHS Multi-Family Housing (MFH) borrowers and applicants to facilitate the acquisition of Section 515 properties by NPs and PHAs.

DATES: The closing deadline for receipt of all applications in response to this NOFA is 11:59 p.m., Eastern Daylight Time on February 8, 2022. See the SUPPLEMENTARY INFORMATION section for additional information.

ADDRESSES: Applications in response to this NOFA must be submitted electronically to the CloudVault. Specific instructions on how to submit applications electronically are provided below within this Notice under the SUPPLEMENTARY INFORMATION section and can also be viewed at: https://www.grants.gov.

FOR FURTHER INFORMATION CONTACT: Stephanie Vergin, Preservation and Production Division, Multi-Family Housing, at (651) 602-7820 (this is not a toll-free number) or via email: stephanie.vergin@usda.gov.

SUPPLEMENTARY INFORMATION:

Authority

This NOFA is authorized pursuant to Section 749 of the Consolidated Appropriations Act, 2018 (Pub. L. 115-141), Section 746 of the Consolidated Appropriations Act, 2019 (Pub. L. 116-6), and Section 764 of the Further Consolidated Appropriations Act, 2020 (Pub. L. 116-94).

Overview Information

Federal Agency Name: Rural Housing Service.

Funding Opportunity Title: Notice of Funding Availability for the Multi-Family Housing Non-Profit Transfer Technical Assistance (MFHNPTA) Grants for Fiscal Year (FY) 2022.

Announcement Type: Initial Announcement.

Assistance Listing Number (ALN) 10.494. (formerly Catalog of Federal Domestic Assistance (CFDA).

Dates: The deadline for receipt of all applications in response to this NOFA is 11:59 p.m., Eastern Daylight Time, on February 8, 2022.

Submissions: Applications must be submitted electronically to CloudVault. Applications must be received by the closing deadline.

The process for submitting an electronic application to the Agency via CloudVault is as follows:

At least three business days prior to the application deadline for the applicable funding round, the applicant must email the Agency a request to create a shared folder in CloudVault. The email must be sent to the following address: npta.rfp@usda.gov. The email must contain the following information:

• Subject line: Non-Profit Technical Assistance NOFA Submission.

• Body of email: Applicant Name and Applicant Contact Information.

• Request language: “Please create a shared CloudVault folder so that we may submit our application documents.”

Once the email request to create a shared CloudVault folder has been received, a shared folder will be created within two business days. When the shared CloudVault folder is created by the Agency, the system will automatically send an email to the applicant's submission email with a link to the shared folder. All required application documents in accordance with this NOFA must be loaded into the shared CloudVault folder. When the submission deadline is reached, the applicant's access to the shared CloudVault folder will be removed. Any document uploaded to the shared CloudVault folder after the application deadline will not be reviewed or considered.

The applicant should upload a Table of Contents of all the documents that have been uploaded to the shared CloudVault folder. Last-minute requests and submissions may not allow adequate time for the submission process to take place prior to the deadline. Applicants are reminded that all submissions must be submitted electronically via CloudVault and received by the deadline.

Documents received after the deadline will not be evaluated. Upon request, the Agency will provide the responding entities with a written acknowledgement of receipt.

A. Funding Opportunity Description

The technical assistance (TA) grants offered under this NOFA are for the purpose of facilitating the transfer and preservation of existing Rural Rental Housing properties under Section 515 of the Housing Act of 1949, as amended (42 U.S.C. 1485). Agency regulations for the Section 515 program are published at 7 CFR part 3560.

Applications must demonstrate the responding entity's experience and expertise in the acquisition and rehabilitation of affordable MFH properties and their capacity to provide advisory services in affordable housing. Responding entities may submit applications to serve a single-state or multi-state area.

B. Award Information

The Agency will evaluate and score the grant applications according to the criteria set forth in this NOFA. The maximum award per funded application will be $350,000.

The Agency was granted authority for this pilot program under Section 749 of the Consolidated Appropriations Act, 2018 (Pub. L. 115-141); Section 746 of the Consolidated Appropriations Act, 2019 (Pub. L. 116-6); and Section 764 of the Further Consolidated Appropriations Act, 2020 (Pub. L. 116-94). In addition, the Agency is authorized to utilize the appropriations from each fiscal year for a total appropriation of $3 million to provide grants to qualified NPs and PHAs who will then provide technical assistance, including financial and legal services, to MFH borrowers to facilitate the acquisition of Section 515MFH properties by NPs and PHAs. These grants will be provided in areas where the USDA Secretary determines there is a risk of loss of affordable housing to keep such properties in the MFH program. Risk of loss of affordable housing may be driven by market conditions or may be due to property-specific factors, including mortgages reaching maturity, owner ability to prepay existing Agency loans, poor physical condition of the property, or failing ownership. Funds that are not obligated to initial awardees by May 1, 2022, may be awarded to other NP and/or PHA applicants waiting for the TA grants based on scoring set forth in this NOFA.

When selecting a grantee, the Agency may request changes to the Scope of Work (SOW). See Section D of this NOFA. Grantees must execute a Grant Agreement that will incorporate a SOW agreed to by the Agency. If the selected grantee does not accept the terms of the Agency and/or does not deliver an executed Grant Agreement within ten business days after receiving the Grant Agreement with the agreed upon SOW, the Agency may choose to rescind the award and select another grantee without further notice.

The grant term is 24 months with an extension allowed up to an additional 12 months at the Agency's discretion.

Grant funds are available for obligation through July 1, 2022. The grant term will be defined in the Grant Agreement and will become effective once signed by the grantee and the Agency.

C. Eligibility Information

Eligibility for grants under this NOFA is limited to NPs and PHAs meeting the requirements specified in this Notice. NPs must meet the definition of nonprofit organization in 7 CFR part 3560. Qualified NPs and PHAs include tribally designated housing entities (TDHE) and tribal housing NPs.

1. Expertise and Capacity.

Eligible grantees must have the knowledge, ability, technical expertise, practical experience, and capacity necessary to develop and package Section 515 property transfer transactions. They must also demonstrate the ability to provide technical assistance to NPs and/or PHAs to facilitate their acquisition of Section 515 properties. In addition, all eligible grantees must demonstrate the ability to exercise leadership, organize work, and prioritize assignments to meet work demands in a cost-efficient and timely manner within the 24-month grant term. Eligible grantees will include a proposed SOW (see Section D of this NOFA) which will be evaluated as part of the application.

2. Organization Status.

Responding entities must document each of the following in their response:

a. Status (i.e., Articles of Incorporation) as a NP and/or PHA.

b. Good standing within the state in which the entity is organized.

c. Legal authority to provide services stated in the application under the applicable laws for the state(s) in which operation is proposed. Examples of acceptable documentation include but are not limited to bylaws, organizational charters, and statutes or regulations.

d. No current or unresolved default or violation of any other federal, state, or local grant or loan agreement(s).

e. Experience in providing technical assistance for Section 515 MFH affordable housing (describe in the SOW).

The requirements above will also apply to any entity performing services on behalf of the respondent.

D. Scope of Work

Responding entities must submit a detailed SOW that includes the following requirements:

a. Introduction/overview with a description of the proposed plan to provide technical assistance to NPs and PHAs in the acquisition of Section 515 properties within the prescribed 24-month grant term.

b. The organization's capabilities to execute the proposed plan within the prescribed 24-month grant term, focusing on the elements described in Section C. 1. of this NOFA.

c. The organization's plan to identify potential sellers of Section 515 properties.

d. The organization's plan to identify and provide services to NPs and PHAs interested in acquiring these properties.

e. Types of proposed technical assistance and legal and/or financial services that will enable NPs and/or PHAs to submit successful transfer applications to the Agency within the prescribed 24-month grant term. Clearly explain the services to be provided directly by your organization and all services that will be provided by third-parties. See Section F.5.b. of this NOFA for additional information.

f. The organization's experience in identifying and successfully assisting entities in the acquisition, repair, and rehabilitation of Section 515 MFH properties.

g. Grant funds usage projection that corresponds with a 24-month timeline for service delivery and illustrates direct and indirect administrative costs in dollars, and as a percentage of the technical assistance services provided. See Section E of this NOFA for more information regarding eligible costs.

h. Any other strength and/or capability not included above that you believe qualifies the organization to deliver services under this grant.

E. Eligible Purposes

Entities responding to this NOFA are required to provide technical assistance to NPs and/or PHAs acquiring Section 515 projects to increase the TA recipients capacity (knowledge, skills, and ability) in, but not limited to, the following areas: Locating potential Section 515 properties for transfer; completing the transfer analysis, negotiation, application, underwriting, and closing processes; and identifying and securing funding from the Agency and/or other sources for the purpose of acquisition, repair and/or rehabilitation. Costs will be limited to those allowed under 2 CFR part 200.

Eligible purposes/costs may include soft costs such as financial analysis, transaction structuring analysis and completion of other transaction details such as Capital Needs Assessments, appraisals, and market surveys or other consultation, advisory and non-construction services required as part of the application process. Ineligible purposes/costs include building materials, labor costs or expenditures otherwise typically included as any hard costs for actual construction or repairs, prepayment, interest, or principal payments.

Grant funds cannot be used by the grantee for activities that are not directly related to specific transactions (such as outreach, conferences, provider personnel education/training, etc.).

Grant funds cannot be used by the grantee for activities or transactions in which they have any direct or indirect ownership interest (regardless of whether it is an interest as a current or prospective owner).

F. Application and Submission Information

All materials must be submitted via CloudVault.

1. Summary.

The application must include a summary page listing the following items:

a. Responding entity's name,

b. Responding entity's Taxpayer Identification Number,

c. Responding entity's address,

d. Responding entity's telephone number,

e. Responding entity's contact person's name, telephone number, and address,

f. Amount of grant requested,

g. The state or states for which the application is submitted, and

h. Responding entity's Dun and Bradstreet Data Universal Numbering System (DUNS) number, registration in the System for Award Management (SAM) prior to submitting an application pursuant to 2 CFR 25.200(b), and other supporting information to substantiate their legal authority and good standing. Organizations can receive a DUNS number at no cost by calling the dedicated toll-free DUNS Number request line at (866) 705-5711 or via the internet at https://www.dnb.com/. Additional information concerning this requirement can be obtained at https://www.grants.gov. All applicants must be registered in SAM prior to submitting an application, unless determined exempt under 2 CFR 25.110 by the Agency. A Federal award recipient must maintain an active SAM registration with current information at all times during which it has an active Federal award or an application under consideration by the Agency. The applicant must ensure that the information in the database is current, accurate, and complete. Applicants must ensure they complete the Financial Assistance General Certifications and Representations in SAM. Similarly, all recipients of Federal financial assistance are required to report information about first-tier sub-awards and executive compensation in accordance with 2 CFR part 170, so long as an entity respondent does not have an exception under 2 CFR 170.110(b), the grantee must have the necessary processes and systems in place to comply with the reporting requirements should the responding entity receive funding. See 2 CFR 170.200(b).

2. Form SF 424, “Application for Federal Assistance.”

3. Felonies and Federal Tax Delinquencies.

Awards made under this NOFA are subject to the provisions contained in the Consolidated Appropriations Act, 2021 (Pub. L. 116-260) Division E, Sections 745 and 746 regarding felony convictions and corporate Federal tax delinquencies. To comply with these provisions, applicants that are, or propose to be, corporations will submit form AD-3030, “Representations Regarding Felony Conviction and Tax Delinquent Status for Corporate Applicants,” as part of their application. Form AD-3030 can be found at: https://www.ocio.usda.gov/document/ad3030.

4. Organizational and Financial Status.

The responding entity must include organizational status documents reflecting the criteria in Section C 2. of this NOFA, as well as financial statements, to show evidence of the responding entity's status as a properly organized private or public NP, or PHA, and its financial ability to carry out the objectives of the grant program. If other entities will be working on behalf of the grantee, current working agreements between the respondent and those entities must be submitted as part of the application and any associated cost must be included in the responding entity's budget.

The responding entity must also disclose all MFH Section 515 projects in which the respondent and or its third-party affiliates have a direct or indirect ownership interest.

5. Organizational Expertise and Experience.

The responding entity must provide a capabilities statement describing the respondent's qualifications under Section C. 1 to provide technical assistance on Section 515 transfers and loan applications.

a. Narrative.

The responding entity must include a narrative describing its knowledge, demonstrated ability, and practical experience in completing transfers of Section 515 properties and/or providing training and technical assistance to NPs and PHAs for the transfer and rehabilitation of Section 515 properties. If the responding entity intends to have other entities working on its behalf, the narrative must identify those entities and address their ability to meet the stated eligibility requirements and experience in delivering approved technical assistance services. Applicants must identify Section 515 transfer transactions completed by the applicant and/or organizations to whom the responding entity and/or other entity working on its behalf has provided technical assistance on applications for the transfer of Section 515 projects in the last five years. For the projects and applications above, the applicant must provide the Section 515 property name and location (city and state), technical assistance recipient organizational name and location (city and state), source of technical assistance funding, and outcome of the transaction (i.e., no ownership change, transaction in process, transfer completed).

The responding entity must specify the states and/or service areas in which they will offer technical assistance services and the states and/or service areas in which any proposed third-party contractors/subrecipients will offer technical assistance services. Respondents must specify why each targeted service area and/or property is at risk of loss of affordable housing.

b. Key Personnel and Staffing Plan.

Applications must include the resumes of the key staff personnel that will perform the following functions: (1) Delivery of technical assistance and (2) administration of the grant. (CNAs, appraisals, and market surveys are not considered to be key personnel services). Describe each individual's ability to perform the proposed activities and/or past experience in successfully managing service delivery of TA grants. Include a staffing chart complete with name, job title, salary, hours, timelines, and descriptions of employee duties to achieve the objectives of the grant program.

c. Consulting Services.

The Agency's goal is to increase the capacity of NP and PHA staff to directly deliver technical assistance services to recipients. To support this goal, the Agency is limiting the use of contractors for the delivery of technical assistance services to a maximum of 10% of the grantee's key personnel services budget. If the respondent intends to contract key personnel services from outside its organization (not to exceed the 10% limit), a plan must be outlined to address how the outside entities working on the applicant's behalf will deliver key personnel services in each targeted geographic area specified. Moreover, a resume, hourly contract rate, and description of the contractor duties aimed at achieving the grant objectives must be provided for each proposed third-party contractor/subrecipient.

6. Scope of Work.

Applications must include a detailed SOW covering a 24-month period (see Section D of this NOFA).

7. Scoring Criteria Worksheet.

Applications must include a separate one-page information sheet listing each of the “Scoring Criteria” contained in Section G of this NOFA, followed by the page numbers of all relevant material and documentation contained in the application to support these criteria.

G. Scoring Criteria

Only those respondents deemed qualified under Sections C and F of this NOFA will be scored under this section. The review process designed for this NOFA will evaluate the degree to which the application sets forth measurable realistic objectives that are consistent with this NOFA and can be completed within a 24-month grant term consistent with the application and processing guidance established by Agency transfer regulations.

Selection points will be awarded as follows:

1. Applicant Experience (RHS Section 515).

a. Applicant has successful, verifiable experience completing Section 515 transfers during the past five years. To receive points, transfers must be completed or there must be a submitted transfer application currently pending approval and/or closing with the Agency:

• 1-2 Section 515 project transfers: 10 points

• 3-5 Section 515 project transfers: 20 points

• 6-8 Section 515 project transfers: 30 points

• 9 or more Section 515 project transfers: 40 points

b. Applicant has successful, verifiable experience providing technical assistance that has increased the capacity of NPs and/or PHAs to complete Section 515 transfers. The number of NP and/or PHA clients to whom the respondent has provided Section 515 technical assistance during the past five years:

• 1-4 Section 515 technical assistance clients: 10 points

• 5-8 Section 515 technical assistance clients: 20 points

• 9 or more Section 515 technical assistance clients: 30 points

2. Applicant Experience (Other Affordable Multi-Family Housing Programs).

a. Applicant has successful, verifiable experience completing affordable MFH project transfers during the past five years. To receive points, projects must have been completed or have at a minimum obtained funding approval:

• 1-2 affordable housing project transfers: 5 points

• 3-5 affordable housing project transfers: 10 points

• 6-8 affordable housing project transfers: 15 points

• 9 or more affordable housing project transfers: 20 points

b. Applicant has successful, verifiable experience providing technical assistance that has increased the capacity of NPs and/or PHAs to complete affordable MFH project transfers. The number of NP and/or PHA clients to whom the respondent has provided affordable MFH project technical assistance during the past five years:

• 1-4 affordable housing project clients: 5 points

• 5-8 affordable housing project clients: 10 points

• 9 or more affordable housing project clients: 15 points

3. Proposed Outcomes.

a. Applicant uses technical assistance resources to maximize the number of Section 515 projects assisted with grant funding. Scoring is based on the project plan in Section D: Scope of Work. Number of projects assisted under the grant:

• 1-5 projects: 5 points

• 6-10 projects: 10 points

• 11 or more projects: 15 points

b. Applicant uses technical assistance resources to increase the capacity of NPs and PHAs to complete transfers of Section 515 properties. Scoring is based on the project plan in Section D: Scope of Work. Number of NPs or PHAs served under the grant:

• 1-3 NPs/PHAs: 5 points

• 4-6 NPs/PHAs: 10 points

• 7 or more NPs/PHAs: 15 points

4. Grant Administration

a. Applicant uses grant resources to maximize the funding available for direct program delivery to TA recipients. Administrative costs as a percentage of grant funds used:

• 10% to 19%: 5 points

• Less than 10%: 10 points

b. Applicant has successful, verifiable experience managing service delivery or technical assistance through the grant lifecycle (including submitting timely requests for funding, meeting reporting requirements, and closing out awards) during the past five years:

• 1-4 grants: 5 points

• 5 or more grants: 10 points

Applicants must score a minimum of 35 total points in Sections G. 1 and 2 and 55 total points in Sections G. 1, 2, 3 and 4 to be eligible for funding.

5. Multi-Family Housing Program Delivery Goals. Applicants that meet the minimum scoring requirements may be eligible for up to 15 points to support MFH program delivery goals.

a. Geographic coverage (up to 10 points): The applicant proposes to serve a geographic area that is underserved by other technical assistance providers areas or proposes to serve areas with a significant number of properties in need of preservation.

b. TA service delivery models (up to 5 points): The applicant proposes a TA service delivery model that is different from other proposed models. The agency seeks to test a range of TA delivery models to assess the methods of TA delivery that are most effective to facilitate preservation.

6. Administrator Discretionary Points: Applicants that meet the minimum scoring requirements may be considered for up to 15 discretionary scoring points (5 points for each category) as determined by the Administrator, which advance any or all of the Agency's three key funding priorities, provided that all other requirements set forth in this notice are otherwise met. The three key priorities are:

(i) COVID-19 Impacts (up to 5 points): Priority points may be awarded if the project is located in or serving one of the top 10% of counties or county equivalents based upon county risk score in the United States. Information on whether your project qualifies for priority points can be found at the following website: https://www.rd.usda.gov/priority-points.

(ii) Equity (up to 5 points): Priority points may be awarded if the project is located in or serving a community with score 0.75 or above on the CDC Social Vulnerability Index. Information on whether your project qualifies for priority points can be found at the following website: https://www.rd.usda.gov/priority-points.

(iii) Climate Impacts (up to 5 points): Priority points may be awarded if the project is located in or serving coal, oil and gas, and power plant communities whose economic well-being ranks in the most distressed tier of the Distressed Communities Index. Information on whether your project qualifies for priority points can be found at the following website: https://www.rd.usda.gov/priority-points.

Final scores are determined by the Agency. Meeting the minimum scoring requirements and/or receiving discretionary points from the Administrator does not guarantee a funding award.

The Agency will notify all responding entities whether their application has been accepted or rejected and provide appeal rights under 7 CFR part 11, as appropriate.

H. Federal Award Administration Information

1. Federal Award Notices. The Agency will notify, in writing, applicants whose applications have been selected for funding. At the time of notification, the Agency will advise the applicant what further information and documentation is required along with a timeline for submitting the additional information. If the Agency determines it is unable to select the application for funding, the applicant will be informed in writing. Such notification will include the reasons the applicant was not selected. The Agency will advise applicants, whose applications did not meet eligibility and/or selection criteria, of their review rights or appeal rights in accordance with 7 CFR part 11.

2. Administrative and National Policy Requirements. The Agency is encouraging applications for projects that will support rural areas with persistent poverty. This emphasis will support the Agency's mission of improving the quality of life for Rural Americans and commitment to directing resources to those who most need them.

(a) The following additional requirements apply to grantees selected for this program:

(1) Complete Form RD 1942-46 “Letter of Intent to Meet Conditions.”

(2) Complete Form RD 1940-1, “Request for Obligations of Funds.”

(3) Complete FMMI Vendor Code Request Form.

(4) Provide a copy of the organization's Negotiated Indirect Cost Rate Agreement.

(5) Certify that all work completed for the award will benefit a rural area.

(6) Certify that the applicant will comply with the Federal Funding Accountability and Transparency Act of 2006 and report information about subawards and executive compensation.

(7) Certify that the U.S. has not obtained an outstanding judgment against the organization in a Federal Court (other than in the United States Tax Court).

(8) Execute Form SF-424B, “Assurance—Non-Construction Programs.”

(9) Execute Form SF-LLL, “Disclosure Form to Report Lobbying,” if applicable or certify that the organization does not lobby.

(b) The applicant must provide evidence of compliance with other federal statutes, including but not limited to the following:

(1) Debarment and suspension information is required in accordance with 2 CFR part 417 (Nonprocurement Debarment and Suspension) supplemented by 2 CFR part 180, if it applies. The section heading is “What information must I provide before entering into a covered transaction with a Federal agency?” located at 2 CFR 180.335. It is part of OMB's Guidance for Grants and Agreements concerning Government-wide Debarment and Suspension.

(2) All of the organization's known workplaces by including the actual address of buildings (or parts of buildings) or other sites where work under the award takes place. Workplace identification is required under the drug-free workplace requirements in Subpart B of 2 CFR part 421, which adopts the Governmentwide implementation (2 CFR part 182) of the Drug-Free Workplace Act.

(3) 2 CFR parts 200 and 400 (Uniform Administrative Requirements, Cost Principles and Audit Requirements for Federal Awards).

(4) 2 CFR part 182 (Governmentwide Requirements for Drug-Free Workplace (Financial Assistance)) and 2 CFR part 421 (Requirements for Drug Free Workplace (Financial Assistance)).

(5) Executive Order 13166, “Improving Access to Services for Persons with Limited English Proficiency.” For information on limited English proficiency and agency-specific guidance, go to http://www.lep.gov.

(6) All applicants will be screened for eligibility to participate in the grant program using Treasury's Do Not Pay Portal in compliance with the Improper Payments Elimination and Recovery Improvement Act.

The following forms for acceptance of a federal award are now collected through registration or annual recertification in SAM.gov in the Financial Assistance General Certifications and Representations section:

• Form AD-1047, “Certification Regarding Debarment, Suspension, and Other Responsibility Matters-Primary Covered Transactions.”

• Form AD-1048, “Certification Regarding Debarment, Suspension, Ineligibility and Voluntary Exclusion. Lower Tier Covered Transactions.”

• Form AD-1049, “Certification Regarding Drug-Free Workplace Requirements (Grants).”

• Form AD-3031, “Assurance Regarding Felony Conviction or Tax Delinquent Status for Corporate Applicants.”

3. Reporting. Post-award reporting requirements can be found in the Grant Agreement. The grantee will provide an audit report or financial statements in accordance with Uniform Audit Requirements for Federal Awards at 2 CFR part 200, subpart F.

I. Other Information

Paperwork Reduction Act

Under the Paperwork Reduction Act (44 U.S.C. 3501 et seq.), OMB must approve all “collection of information” as a requirement for “answers to * * * identical reporting or recordkeeping requirements imposed on ten or more persons * * *.” (44 U.S.C. 3502(3)(A).) RHS has concluded that the reporting requirements contained in this rule/funding announcement will involve less than 10 persons and do not require approval under the provisions of the Act.

Civil Rights Requirements

All grants made under this notice are subject to Title VI of the Civil Rights Act of 1964 as required by the USDA (7 CFR part 15, subpart A) and Section 504 of the Rehabilitation Act of 1973, Title VIII of the Civil Rights Act of 1968, Title IX, Executive Order 13166 (Limited English Proficiency), Executive Order 11246, and the Equal Credit Opportunity Act of 1974.

Federal Funding Accountability and Transparency Act

All applicants, in accordance with 2 CFR part 25, must have a DUNS number, which can be obtained at no cost via a toll-free request line at 1-866-705-5711 or online at http://fedgov.dnb.com/webform. Similarly, all grant applicants must be registered in the System for Award Management (SAM) prior to submitting an application. Applicants may register for the SAM at http://www.sam.gov/SAM. All recipients of Federal financial grant assistance are required to report information about first-tier sub-awards and executive total compensation in accordance with 2 CFR part 170.

Non-Discrimination Statement

In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.ocio.usda.gov/document/ad-3027, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or,

(2) Fax: (833) 256-1665 or (202) 690-7442; or

(3) Email: program.intake@usda.gov.

USDA is an equal opportunity provider, employer, and lender.

Joaquin Altoro,
Administrator, Rural Housing Service.

[FR Doc. 2021-26757 Filed 12-9-21; 8:45 am]

BILLING CODE 3410-XV-P